DEPARTMENT OF TRANSPORTATION

Pipeline and Hazardous Materials Safety Administration

[Docket No. PHMSA-2019-0224; Notice No. 2025-0001]

Hazardous Materials: Notice of Public Meetings in 2025 for International Standards on the Transport of Dangerous Goods

AGENCY: Pipeline and Hazardous Materials Safety Administration, Office of Hazardous Materials Safety, U.S. Department of Transportation.

ACTION: Notice of 2025 public meetings.

SUMMARY: This notice announces that the Pipeline and Hazardous Materials Safety Administration (PHMSA) Office of Hazardous Materials Safety (OHMS) will host four public meetings during 2025 in advance of certain international meetings. The first meeting will be held in preparation of the International Civil Aviation Organization's (ICAO) Dangerous Goods Panel (DGP) Working Group 25 (WG/25) scheduled for April 21-25, 2025 in Delhi, India. The second meeting will be held in preparation of the 66th session of the United Nations Sub-Committee of Experts on the Transport of Dangerous Goods (UNSCOE TDG) scheduled for June 30-July 4, 2025 in Geneva, Switzerland. The third meeting will be held in preparation of the 30th session of the ICAO DGP (DGP/30) scheduled for October 6-10, 2025 in Montreal, Canada. The fourth meeting will be held in preparation of the 67th session of the UNSCOE TDG scheduled for November 24-December 3, 2024 in Geneva, Switzerland. For each of these meetings, PHMSA will solicit public input on current proposals.

ADDRESSES: Each public meeting will take place approximately two weeks preceding the international meeting at DOT Headquarters, West Building, 1200 New Jersey Avenue SE, Washington, DC 20590-0001. A remote participation option will also be available. Specific information for each meeting will be posted when available on the PHMSA website at www.phmsa.dot.gov/international-program/international-program-overview under “Upcoming Events.” This information will include the public meeting date, time, remote access login, conference dial-in number, and details for advance registration.

FOR FURTHER INFORMATION CONTACT: Steven Webb or Aaron Wiener, U.S. Department of Transportation Pipeline and Hazardous Materials Safety Administration, by phone at 202-366-8553.

SUPPLEMENTARY INFORMATION: The purpose of PHMSA's public meetings held in advance of certain international meetings is to allow the public to give input on the current proposals being considered by the international standards setting bodies.

The 66th and 67th sessions of UNSCOE TDG will represent the first round of meetings scheduled for the 2025-2026 biennium. UNSCOE TDG will consider proposals for the 25th Revised Edition of the United Nations Recommendations on the Transport of Dangerous Goods: Model Regulations (Model Regulations), which may be implemented into relevant domestic, regional, and international regulations starting January 1, 2029. Copies of working documents, informal documents, the agenda, and the post-meeting final report may be obtained from the United Nations Transport Division's website at www.unece.org/trans/danger/danger.html.

ICAO DGP-WG/25 and DGP/30 meetings represent the second and final round of meetings of the 2024-2025 biennium. ICAO DGP will consider proposals for the 2027-2028 edition of the Technical Instructions for the Safe Transport of Dangerous Goods by Air (Doc 9284). Copies of working papers, information papers, the agenda, and the post-meeting final report may be obtained from the ICAO DGP website at www.icao.int/safety/DangerousGoods/Pages/DGPMeetings.aspx.

Signed in Washington, DC, on March 7, 2025.
William S. Schoonover,
Associate Administrator for Hazardous Materials Safety, Pipeline and Hazardous Materials Safety Administration.

[FR Doc. 2025-03912 Filed 3-11-25; 8:45 am]

BILLING CODE 4910-60-P